DEPARTMENT OF HEALTH AND HUMAN SERVICES

Administration for Children and Families

Proposed Information Collection Activity; Follow-up Study of Coaching Practices in Early Care and Education Settings (OMB #0970-0515)

AGENCY: Office of Planning, Research, and Evaluation, Administration for Children and Families, HHS.

ACTION: Request for public comment.

SUMMARY: This is a primary data collection request for the Follow-up Study of Coaching Practices in Early Care and Education Settings (3), a follow-up to the previously approved Study of Coaching Practices in Early Care and Education Settings (SCOPE) survey (OMB #0970-0515). The study aims to examine, using surveys and qualitative interviews, the practice and processes of coaching and professional development in supporting early care and education (ECE) settings in their provision of care for preschool children and their families as COVID-19 has progressed. The study will focus on both centers and family child care (FCC) homes that serve low-income children, with a primary target of settings that serve children supported by Child Care and Development Fund subsidies or a Head Start grant.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: Follow-up SCOPE will examine the practice of coaching and professional development more broadly provided in support of centers and FCC homes. The study will collect information on the following: How coaching and professional development are supporting centers and FCC homes; the perceived value and role of coaching, professional development, and quality improvement; the features of coaching and how they are delivered; and the role(s) of coaches and how they have been supported. The study will also examine the degree to which coaching has been sustained and/or changed compared to before COVID-19. In particular, there will be a focus on understanding the use of remote versus in-person strategies for coaching and professional development. This study aims to explore the implementation of coaching and professional development in ECE settings as COVID-19 has progressed. The study will not allow for statistical generalization to different sites or service populations.

Survey and interview questions will focus on the current status of these activities at the time of the data collection, changes compared to before COVID-19 began, and what has been challenging or worked well. The study will use surveys and interviews with center directors, FCC providers, and coaches. The sample frame will be comprised of respondents to the 2019 survey.

Respondents: ECE center directors, coaches, and FCC providers who responded to 2019 SCOPE surveys.

Annual Burden Estimates

Data collection will be completed within a 1-year period.

Instrument | Number of respondents (total over request period) | Number of responses per respondent (total over request period) | Average Burden per response (in hours) | Total/Annual burden (in hours)
Coach Survey (Instrument 1) | 100 | 1 | .33 | 33
Center Director Survey (Instrument 2) | 66 | 1 | .33 | 22
FCC Provider Survey (Instrument 3) | 38 | 1 | .33 | 13
Coach Interview (Instrument 4) | 12 | 1 | .75 | 9
Center Director Interview (Instrument 5) | 24 | 1 | .75 | 18
FCC Provider Interview (Instrument 6): FCC providers | 12 | 1 | .75 | 9

Estimated Total Annual Burden Hours: 104.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9858(a)(5), 42 U.S.C. 9835, and 42 U.S.C. 9844.

Mary B. Jones,
ACF/OPRE Certifying Officer.

[FR Doc. 2020-28043 Filed 12-18-20; 8:45 am]

BILLING CODE 4184-22-P